ENVIRONMENTAL PROTECTION AGENCY

40 CFR Part 52

[EPA-R03-OAR-2005-VA-0011; FRL-8537-6]

Approval and Promulgation of Air Quality Implementation Plans; Commonwealth of Virginia; Control of Particulate Matter From Pulp and Paper Mills; Correction

AGENCY: Environmental Protection Agency (EPA).

ACTION: Final rule; correcting amendment.

SUMMARY: This document corrects errors in the final rule chart listing Virginia regulations governing kraft pulp and paper mills which EPA has incorporated by reference into the Virginia State Implementation Plan (SIP).

DATES: Effective Date: March 6, 2008.

FOR FURTHER INFORMATION CONTACT: Harold A. Frankford (215) 814-2108 or by e-mail at frankford.harold@epa.gov.

SUPPLEMENTARY INFORMATION: Throughout this document wherever “we” or “our” are used we mean EPA. On October 19, 2007 (72 FR 59207), we published a final rulemaking action announcing our approval of State Implementation Plan (SIP) revisions to Virginia regulations governing kraft pulp and paper mills (9 VAC 5, Chapter 40, Part II, Article 13). In that document, in the rule chart for 40 CFR 52.2420(c), for entry 5-40-1670 published on Page 59210, we inadvertently omitted two “added” definitions, listed two other definitions that were not part of the SIP revision, and removed language providing the historical status of the definitions not affected by this EPA approval action. In addition, we provided an incorrect amendatory instruction on Page 15209 regarding the revised compliance provisions (5-40-1750, formerly entry 5-40-1750A). This action (1) revises the list of definitions described in the “Explanation [former SIP citation]” column for entry 5-40-1670, and (2) corrects the erroneous amendatory instruction in part 52 for entry 5-40-1750.

In the Rule document E7-20568 published in the Federal Register on October 19, 2007 (72 FR 59207), Amendatory Instruction Number 2 on Page 59209, Third Column is revised to read: “In § 52.2420, the table in paragraph (c) is amended by adding an entry for 5-40-1750, removing the entry for 5-40-1750A, and revising the entries for Article 13 (title), 5-40-1660, 5-40-1670, and 5-40-1810 to read as follows:”

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because this rule is not substantive and imposes no regulatory requirements, but merely corrects a citation in a previous action. Thus, notice and public procedure are unnecessary. We find that this constitutes good cause under 5 U.S.C. 553(b)(B).

Statutory and Executive Order Reviews

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it approves a state rule implementing a Federal standard.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of March 6, 2008. EPA will submit a report containing this rule and other required information to the U.S. Senate, the U.S. House of Representatives, and the Comptroller General of the United States prior to publication of the rule in the Federal Register. This correction to the table in 40 CFR 52.2420(c) for Virginia is not a “major rule” as defined by 5 U.S.C. 804(2).

List of Subjects in 40 CFR Part 52

Environmental protection, Air pollution control, Incorporation by reference, Particulate matter, Reporting and recordkeeping requirements.

Dated: February 25, 2008.
Donald S. Welsh,
Regional Administrator, Region III.

40 CFR part 52 is amended as follows:

PART 52—[AMENDED]

1. The authority citation for 40 CFR part 52 continues to read as follows:

Authority: 42 U.S.C. 7401 et seq.

Subpart VV—Virginia

2. In § 52.2420, the table in paragraph (c) is amended by adding an entry for 5-40-1750, removing the entry for 5-40-1750A, and revising the entries for Article 13 (title), 5-40-1660, 5-40-1670, and 5-40-1810 to read as follows:

§ 52.2420 Identification of plan.

* * * * *

(c) * * *

EPA-Approved Virginia Regulations and Statutes
State citation (9 VAC 5) | Title/subject | State effective date | EPA approval date | Explanation [former SIP citation]
* * * * * * *
Chapter 40 Existing Stationary Sources
* * * * * * *
Part II Emission Standards
* * * * * * *
Article 13 Emission Standards From Kraft Pulp and Paper Mills (Rule 4-13)
5-40-1660 | Applicability and designation of affected facilities | 4/01/99 | 10/19/07, 72 FR 59207 |
5-40-1670 | Definitions | 4/01/99 | 10/19/07, 72 FR 59207 | Existing: Kraft pulp mill, Lime kiln, Recovery furnace, Smelt dissolving tank. Added: Black liquor solids, Green liquor sulfidity, Neutral sulfite semichemical pulping operation, New design recovery furnace, Pulp and paper mill, Semichemical pulping process; Revised: Cross recovery furnace, Straight kraft recovery furnace. Remaining definitions are Federally enforceable as part of the Section 111(d) plan for kraft pulp mills (see, § 62.11610).
* * * * * * *
5-40-1750 | Compliance | 4/01/99 | 10/19/07, 72 FR 59207 |
* * * * * * *
5-40-1810 | Permits | 4/01/99 | 10/19/07, 72 FR 59207 |
* * * * * * *

* * * * *

[FR Doc. E8-4236 Filed 3-5-08; 8:45 am]

BILLING CODE 6560-50-P